DEPARTMENT OF COMMERCE

National Telecommunications and Information Administration

Extension of Comment Period for Telecommunications Assessment of the Arctic Region

AGENCY: National Telecommunications and Information Administration, U.S. Department of Commerce.

ACTION: Notice; Extension of Comment Period.

SUMMARY: On October 3, 2014, the National Telecommunications and Information Administration (NTIA) published a Notice of Inquiry (NOI) to seek public comment on the current and potential availability of communications services in the Arctic region as called for by the Implementation Plan for the National Strategy for the Arctic Region. 79 FR 59746. The NOI requests public comments no later than November 3, 2014. Through this Notice, NTIA is extending the public comment period until December 3, 2014, to afford parties a full opportunity to respond to the important issues presented in the NOI.

DATES: Written comments are requested by December 3, 2014.

ADDRESSES: Comments may be submitted by email to arcticnoi@ntia.doc.gov. Comments also may be submitted by fax at (202) 501-8009 or by mail to: National Telecommunications and Information Administration, U.S. Department of Commerce, 1401 Constitution Avenue NW., Room 4898, Attn: Arctic NOI, Washington, DC 20230. Responders should include the name of the person or the organization, as well as a page number on each page of their submissions. Paper submissions should also include a CD or DVD with an electronic version of the document, which should be labeled with the name and organization of the filer. All email messages and comments received are a part of the public record and will generally be posted without change to the NTIA Web site at http://www.ntia.doc.gov/federal-registernotice/2014/comments-arctic-noi. All personal identifying information (e.g., name, address) voluntarily submitted by the commenter may be publicly accessible. Please do not submit any confidential or business sensitive information. NTIA intends to use the information provided in response to this Notice about potential future plans for communications networks in Arctic Alaska only in the aggregate, excluding companies' names and customer information. Additionally, this information will be used to describe potential future communications developments to fill the gaps where services are not currently provided. Comments received will be posted on the NTIA Web site at http://www.ntia.doc.gov.

FOR FURTHER INFORMATION CONTACT: Helen Shaw, National Telecommunications and Information Administration, U.S. Department of Commerce, 1401 Constitution Avenue NW., Room 4874, Washington, DC 20230; telephone: (202) 482-1157; email: hshaw@ntia.doc.gov. Please direct media inquiries to NTIA's Office of Public Affairs, (202) 482-7002.

SUPPLEMENTARY INFORMATION: On October 3, 2014, the National Telecommunications and Information Administration (NTIA) published a Notice of Inquiry (NOI) to seek public comment on the current and potential availability of communications services in the Arctic region as called for by the Implementation Plan for the National Strategy for the Arctic Region. 79 FR 59746. Effective communications services are critical to accommodate the increase in commercial, residential, governmental, and other critical economic and social activities across Arctic Alaskan communities, as well as the pan-Arctic region in general. A robust communications infrastructure is a critical tool in economic development, and it is expected that communications networks will contribute to small business development, economic growth, and corresponding employment increases. Accurate and reliable networks and services, such as radionavigation, are critical to the safety and security of the region. The NOI offers an opportunity for all interested parties to provide information regarding existing and potential communications technologies, services and applications for the Arctic region. Through this Notice, NTIA is extending the comment period for the NOI from November 3, 2014, until December 3, 2014, to afford parties a full opportunity to respond to the important issues presented in the Notice.

Dated: October 23, 2014.
Kathy D. Smith,
Chief Counsel.

[FR Doc. 2014-25574 Filed 10-27-14; 8:45 am]

BILLING CODE 3510-60-P